DEPARTMENT OF LABOR

Employment and Training Administration

Investigations Regarding Certifications of Eligibility To Apply for Worker Adjustment Assistance and Alternative Trade Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 29, 2008.

Interested persons are invited to submit written comments regarding the subject matter of the investigations to the Director, Division of Trade Adjustment Assistance, at the address shown below, not later than September 29, 2008.

The petitions filed in this case are available for inspection at the Office of the Director, Division of Trade Adjustment Assistance, Employment and Training Administration, U.S. Department of Labor, Room C-5311, 200 Constitution Avenue, NW., Washington, DC 20210.

Signed at Washington, DC, this 10th day of September 2008.
Erin FitzGerald,
Director, Division of Trade Adjustment Assistance.

Appendix
[TAA petitions instituted between 9/2/08 and 9/5/08]
TA-W | Subject firm (petitioners) | Location | Date of institution | Date of petition
63961 | Saginaw Machine Systems, Inc. (State) | Saginaw, MI | 09/02/08 | 08/27/08
63962 | GE Consumer Industrial Lighting (IUE) | Willoughby, OH | 09/02/08 | 08/18/08
63963 | Fisher Corporation (Comp) | Troy, MI | 09/02/08 | 09/01/08
63964 | Boise Cascade LLC (AWPPW) | Salem, OR | 09/02/08 | 08/29/08
63965 | General Motors Vehicle Manufacturing (UAW) | Oklahoma City, OK | 09/03/08 | 09/02/08
63966 | Honeywell (Wkrs) | Elberton, GA | 09/03/08 | 08/27/08
63967 | Merkle-Korff Industries Mt. Prospect Rd. Plant (Comp) | Des Plaines, IL | 09/03/08 | 08/18/08
63968 | Genie Company—Overhead Door Corp. (Wkrs) | Shenandoah, VA | 09/03/08 | 08/27/08
63969 | HD Supply, Inc. (Wkrs) | Columbus, GA | 09/03/08 | 08/18/08
63970 | A. Klein & Company, Inc. (Comp) | Claremont, NC | 09/03/08 | 08/29/08
63971 | ATS Automotive Technology Systems (State) | Lawrenceville, IL | 09/03/08 | 09/02/08
63972 | DeRoyal Industries, Inc. (Wkrs) | Powell, TN | 09/03/08 | 08/26/08
63973 | Steelcase Inc. (State) | Grand Rapids, MI | 09/03/08 | 08/21/08
63974 | Element Customer Care LLC (Wkrs) | Durham, NC | 09/03/08 | 08/18/08
63975 | Hubbell Power Systems, Inc. (Comp) | Elkton, TN | 09/03/08 | 08/21/08
63976 | Stauble Machine and Tool (Wkrs) | Louisville, KY | 09/03/08 | 09/02/08
63977 | Easy Garment, Inc. (Wkrs) | New York, NY | 09/03/08 | 08/29/08
63978 | Rieter Automotive (State) | Saint Joseph, MI | 09/03/08 | 07/22/08
63979 | Emerson Power Transmission (Wkrs) | Aurora, IL | 09/04/08 | 08/22/08
63980 | Pollak (Comp) | Canton, MA | 09/04/08 | 09/02/08
63981 | Prime Tanning (Comp) | Berwick, ME | 09/04/08 | 09/02/08
63982 | Moraine Sequencing Center, Inc. (OH) | Moraine, OH | 09/04/08 | 09/02/08
63983 | Hillerick and Bradsby (Wkrs) | Ontario, CA | 09/04/08 | 09/03/08
63984 | Norwalk Furniture (Comp) | Livingston, TN | 09/04/08 | 09/03/08
63985 | Cooper Standard Automotive (Union) | Auburn, IN | 09/04/08 | 09/02/08
63986 | Khoury, Inc. (Comp) | Kingsford, MI | 09/04/08 | 09/03/08
63987 | Metaldyne (UAW) | St Marys, PA | 09/04/08 | 08/28/08
63988 | Porter Engineered Systems, Inc. (Comp) | Westfield, IN | 09/04/08 | 09/03/08
63989 | JLG Industries (Wkrs) | McConnellsburg, PA | 09/04/08 | 09/03/08
63990 | Whirlpool Oxford Division (Comp) | Oxford, MS | 09/05/08 | 09/04/08
63991 | United Steel and Wire Company (State) | Battle Creek, MI | 09/05/08 | 09/04/08
63992 | Owens-Corning Composite Materials (Wkrs) | Anderson, SC | 09/05/08 | 08/23/08
63993 | Stanley-Bostitch, Inc. (State) | Clinton, CT | 09/05/08 | 09/04/08
63994 | Johnson Controls Interior Manufacturing (Comp) | Hartland, MI | 09/05/08 | 08/20/08
63995 | Wyeth Biotech (Wkrs) | Andover, MA | 09/05/08 | 09/05/08
63996 | MPC Computers, LLC—Nampa (Comp) | Nampa, ID | 09/05/08 | 09/04/08

[FR Doc. E8-21838 Filed 9-18-08; 8:45 am]

BILLING CODE 4510-FN-P